DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held May 4-5, 2004 from 9 a.m. to 5 p.m.

ADDRESSES: The meeting will be held at National Business Aviation Association, 1200 18th Street, NW., Suite 400, Washington, DC 20036.

FOR FURTHER INFORMATION CONTACT: RTCA Secretariat, 1828 L Street, SW., Washington, DC 20036; telephone (202) 833-9339; fax (202) 833-9434; Web site http://www.rtca.org.

SUPPLEMENTARY INFORMATION: Pursuant to section 10(a)(2) of the Federal Advisory Committee Act (Pub. L. 92-463, 5 U.S.C. appendix 2), notice is hereby given for a Special Committee 172 meeting. The agenda will include:

• May 4:

• Opening Plenary Session (Welcome and Introductory Remarks, Review of Agenda, Review Summary of Previous Meeting)

• Convene Working Group-2

• Draft DO-224B, Signed-in-Space Minimum Aviation System Performance Standard (MASPS) for Advanced VHF Digital Data Communications Including Compatibility With Digital Voice Status and proposed changes working papers

• Traceability Data Base, Standard and Recommended Practices (SARPS) to draft DO-224B

• Cross-reference DO-271B changes to draft DO-224B

• May 5:

• Reconvene WG-2 as necessary, per above

• Convene Working Group-3

• RF Susceptibility Exclusion Band

• ED-23B/DO-186A

• Reconvene Plenary

• Review relevant activities

• International Civil Aviation Organization (ICAO) Aeronautical Mobile Communications Panel Work

• NEXCOM activities

• EUROCAE WG-47 status and issues

• Others as appropriate

• Future work for SC-172

• Closing Plenary Session (Other Business, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 8, 2004.
Robert Zoldos,
FAA System Engineer, RTCA Advisory Committee.

[FR Doc. 04-8824 Filed 4-16-04; 8:45 am]

BILLING CODE 4910-13-M